DEPARTMENT OF HOMELAND SECURITY

Coast Guard

33 CFR Part 117

[Docket No. USCG-2020-0033]

Drawbridge Operation Regulation; Rainy River, Rainy Lake and Their Tributaries, Ranier, MN

AGENCY: Coast Guard, DHS.

ACTION: Notice of temporary deviation from regulations; request for comments.

SUMMARY: The Coast Guard authorizes the Canadian National Railroad Bridge, mile 85.0, across the Rainy River to operate remotely. The bridge owner made the request. This temporary deviation will test the remote operations with tenders onsite, and will not change the operating schedule of the bridge.

DATES:

Effective date: This deviation is effective from midnight on May 1, 2020 to midnight on October 15, 2020.

Comment date: Comments and relate material must reach the Coast Guard on or before October 16, 2020.

ADDRESSES: You may submit comments identified by docket number USCG-2020-0033 using Federal eRulemaking Portal at https://www.regulations.gov.

See the “Public Participation and Request for Comments” portion of the SUPPLEMENTARY INFORMATION section below for instructions on submitting comments.

FOR FURTHER INFORMATION CONTACT: If you have questions on this rule, call or email Mr. Lee D. Soule, Bridge Management Specialist, Ninth Coast Guard District; telephone 216-902-6085, email Lee.D.Soule@uscg.mil.

SUPPLEMENTARY INFORMATION:

I. Background, Purpose and Legal Basis

Rainy River and Rainy Lake serve as the border between the United States of America and Canada. The Canadian National bridge is a single leaf bascule type railroad bridge that provides a horizontal clearance of 125 feet. The water level on Rainey Lake and under the bridge is controlled by a hydro-electric dam facility at International Falls, Minnesota. Charted datum is based on the water level surface of Rainy Lake. When the gauge at Fort Frances, Canada reads 1107.0 feet, it results in a variable vertical clearance of 6 to 10 feet in the closed position. The railroad bridge carries significant train traffic across the international border and is the customs port of entry. The drawbridge currently operates under title 33 of the Code of Federal Regulation (CFR), § 117.664.

Prior to March 2011, the Canadian National Bridge was remotely operated without authorization from the District Commander and the railroad failed to operate the bridge in a manner that supported good stewardship of the waterway. After review of the complaints, meetings with the town mayor, and after inquiries from the office of the Honorable Senator James Oberstar, the District Commander ordered the bridge owner to reinstate drawtenders at the bridge by March 2011.

The bridge owner has requested to resume remote operations at the bridge after operating the bridge without complaint for seven boating seasons.

Several trains cross the bridge daily traveling from a Canadian train control district to a United States train control district and must stop at the United States port of entry to debark Canadian train crews and embark United States train crews and vice versa, depending on direction of travel. The train is also inspected prior to entering the United States.

Most of the vessels in the area are Customs and Border Protection patrol boats, houseboats, and other runabouts. Unpowered sail and paddle craft will pass through the bridge if the current is slow. Eight vessels on average request bridge openings each year.

The test schedule will run from midnight on May 1, 2020 to midnight on October 15, 2020. During this test schedule, the bridge will operate remotely with tenders at the bridge to monitor the effectiveness of the remote equipment. The length of the test deviation is necessary to allow all seasonal residents the opportunity to comment on the operations of the bridge. The bridge operates several cameras, a 2-way public address system, and a VHF-FM Marine Radio that monitors channel 16. The bridge owner will continue to maintain a drawtender's log and provide those logs at the end of the test deviation. Vessels able to safely pass under the bridge without an opening may do so at any time.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to http://www.regulations.gov and will include any personal information you have provided. For more about privacy and submissions in response to this document, see DHS's Correspondence System of Records notice (84 FR 48645, September 26, 2018). All public comments will be in our online docket at https://www.regulations.gov and can be viewed by following that website's instructions. Additionally, if you go to the online docket and sign up for email alerts, you will be notified when comments are posted or a final rule is published.

D.L. Cottrell,
Rear Admiral, U.S. Coast Guard, Commander, Ninth Coast Guard District.

[FR Doc. 2020-06822 Filed 4-7-20; 8:45 am]

BILLING CODE 9110-04-P